DEPARTMENT OF COMMERCE

International Trade Administration

[A-570-840]

Manganese Metal From the People's Republic of China; Notice of Extension of Time Limit for Administrative Review

AGENCY: Import Administration, International Trade Administration, Department of Commerce.

ACTION: Notice of extension of time limit.

SUMMARY: The Department of Commerce is extending the time limit for the final results of the third review of the antidumping duty order on manganese metal from the People's Republic of China. The period of review is February 1, 1998 through January 31, 1999. This extension is made pursuant to section 751(a)(3)(A) of the Tariff Act of 1930, as amended by the Uruguay Round Agreements Act.

EFFECTIVE DATE: April 6, 2000.

FOR FURTHER INFORMATION CONTACT: Greg Campbell or Cynthia Thirumalai, Office 1, Import Administration, International Trade Administration, U.S. Department of Commerce, 14th Street and Constitution Avenue, NW, Washington DC 20230; telephone (202) 482-2239 or 482-4087, respectively.

SUPPLEMENTARY INFORMATION: Due to resource constraints, it is not practicable to complete this review within the time limit mandated by section 751(a)(3)(A) of the Tariff Act of 1930, as amended (“the Act”) (i.e., April 7, 2000). The Department of Commerce (“Department”) is, therefore, extending the time limit for completion of the final results to not later than May 3, 2000.

This administrative review and notice are in accordance with section 751(a)(1) of the Act (19 U.S.C. 1675 (a)(1)) and 19 CFR 351.213(h)(2).

Dated: March 31, 2000.
Richard W. Moreland,
Deputy Assistant Secretary for AD/CVD Enforcement.

[FR Doc. 00-8566 Filed 4-5-00; 8:45 am]

BILLING CODE 3510-DS-P